OFFICE OF PERSONNEL MANAGEMENT

Proposed Collection; Comment Request for Review of a Revised Information Collection: OPM 1386B

AGENCY: Office of Personnel Management.

ACTION: Notice.

SUMMARY: In accordance with the Paperwork Reduction Act of 1995 (Public Law 104-13, May 22, 1995), this notice announces that the Office of Personnel Management (OPM) intends to submit a request to the Office of Management and Budget (OMB) for review of a revised information collection. OPM 1386B, Applicant Race and National Origin Questionnaire, is used to gather information concerning the race and national origin of applicants for employment under the Outstanding Scholar provision of the Luevano consent Decree, 93 F.R.D. 68 (1981).

New standards for collecting race and ethnicity are defined in the Federal Register Notice, Revisions to the Standards for the Classification of Federal Data on Race and Ethnicity, 62 FR 58782 (1997). The standards change the classification of Federal data on race and ethnicity contained in OMB Directive 15, Race and Ethnic Standards for Federal Statistics and Administrative Reporting. This classification provides a minimum standard for maintaining, collecting, and presenting data on race and ethnicity. The standards have five categories for race and two for ethnicity. They also allow individuals to select more than one race, based on self-identification.

Approximately 100,000 OPM 1386B forms are completed annually. Each form takes approximately eight minutes to complete. The annual estimated burden is 13,333 hours.

Comments are particularly invited on: whether this information is necessary for the proper performance of functions of OPM, and whether it will have practical utility; whether our estimate performance of functions of OPM, and whether it will have practical utility; whether our estimate of the public burden of this collection of information is accurate, and based on valid assumptions and methodology; and ways in which we can minimize the burden of the collection of information on those who are to respond, through the use of appropriate technological collection techniques or other forms of information technology.

For copies of this proposal, contact Mary Beth Smith-Toomey at (202) 606-8358, FAX (202) 418-3251 or email to mbtoomey@opm.gov. Please include your mailing address with your request.

DATES: Comments on this proposal should be received within 60 calendar days from the date of this publication.

ADDRESSES: Send or deliver comments to: Suzy M. Barker, Director, Examining and Qualifications Policy Division, Employment Service, U.S. Office of Personnel Management, 1900 E Street NW, Room 6500, Washington, DC 20415.

U.S. Office of Personnel Management.
Kay Coles James,
Director.

[FR Doc. 02-8423 Filed 4-5-02; 8:45 am]

BILLING CODE 6325-38-M